DEPARTMENT OF HOMELAND SECURITY

Transportation Security Administration

[Docket No. TSA-2011-0008]

Aviation Security Advisory Committee (ASAC) Meeting

AGENCY: Transportation Security Administration, DHS.

ACTION: Committee management; notice of Federal Advisory Committee meeting.

SUMMARY: The Transportation Security Administration (TSA) will hold a meeting of the Aviation Security Advisory Committee (ASAC) to discuss issues listed in the Meeting Agenda section below. This meeting will be open to the public as stated in the Summary section below.

DATES: The Committee will meet on Tuesday, December 10, 2019, from 9:00 a.m. to 12:00 p.m. This meeting may end early if all business is completed.

ADDRESSES: The meeting will be held at TSA Headquarters, 601 12th Street South, Arlington, VA 20598-6028.

FOR FURTHER INFORMATION CONTACT: Tamika McCree Elhilali, Aviation Security Advisory Committee Designated Federal Official, Transportation Security Administration (TSA-28), 601 South 12th Street, Arlington, VA 20598-6028, ASAC@tsa.dhs.gov, 571-227-2632.

SUPPLEMENTARY INFORMATION:

Summary

Notice of this meeting is given in accordance with the Aviation Security Stakeholder Participation Act, codified at 49 U.S.C. 44946. Pursuant to 49 U.S.C. 44946(f), ASAC is exempt from the Federal Advisory Committee Act (5 U.S.C. App.). The ASAC provides advice and industry perspective to the Administrator of TSA on aviation security matters, including the development, refinement, and implementation of policies, programs, rulemaking, and security directives pertaining to aviation security.

The meeting will be open to the public and will focus on items listed in the “Meeting Agenda” section below. Members of the public, all non-ASAC members, and non-TSA staff must register in advance with their full name and date of birth to attend. Due to space constraints, the meeting is limited to 75 people, including ASAC members and staff, on a first-to-register basis. Attendees are required to present government-issued photo identification to verify identity.

In addition, members of the public must make advance arrangements, as stated below, to present oral or written statements specifically addressing issues pertaining to the items listed in the Meeting Agenda section below. The public comment period will begin at approximately 11:00 a.m., depending on the meeting progress. Speakers are requested to limit their comments to three minutes. Contact the person listed in the FOR FURTHER INFORMATION CONTACT section no later than November 20, 2019, to register to attend the meeting and/or to present oral or written statements addressing issues pertaining to the items listed in the Meeting Agenda section below. Anyone in need of assistance or a reasonable accommodation for the meeting should contact the person listed in the FOR FURTHER INFORMATION CONTACT section.

Meeting Agenda

The Committee will meet to discuss items listed in the agenda below:

• Legislative Update

• Subcommittee and Work Group briefings on calendar year (CY) 2019 activities, key issues, and areas of focus for CY 2020:

○ Air Cargo

○ Airlines

○ Airports

○ General Aviation

○ Insider Threat

○ International Aviation

○ Security Technology

• Public Comments

• Discussion of the CY 2020 Committee Agenda

• Closing Comments and Adjournment

Dated: October 29, 2019.
Eddie D. Mayenschein,
Assistant Administrator, Policy, Plans, and Engagement.

[FR Doc. 2019-24087 Filed 11-4-19; 8:45 am]

BILLING CODE 9110-05-P